DEPARTMENT OF STATE

[Public Notice: 10551]

Determinations Regarding Use of Chemical Weapons by Russia Under the Chemical and Biological Weapons Control and Warfare Elimination Act of 1991; Correction

ACTION: Notice.

SUMMARY: The Department of State published a document in the Federal Register of August 27, 2018, concerning sanctions and waivers under the Chemical and Biological Weapons Control and Warfare Elimination Act of 1991. The waiver section of the document contained incomplete language.

FOR FURTHER INFORMATION CONTACT: Pamela K. Durham, Office of Missile, Biological, and Chemical Nonproliferation, Bureau of International Security and Nonproliferation, Department of State, Telephone (202) 647-4930.

SUPPLEMENTARY INFORMATION:

Correction

In the Federal Register of August 27, 2018 in FR Doc. 2018-18503 on page 43724, in the first column, correct the “Wholly-Owned U.S. Subsidiaries” paragraph to read:

“WHOLLY-OWNED U.S. AND OTHER FOREIGN SUBSIDIARIES: Exports and reexports of goods or technology pursuant to new licenses for exports and reexports to wholly-owned U.S. and other foreign subsidiaries in Russia, provided that such licenses shall be issued on a case-by-case basis, consistent with export licensing policy for Russia prior to enactment of these sanctions.”

Dated: September 12, 2018.
Choo S Kang,
Acting Assistant Secretary of State for International Security and Nonproliferation.

[FR Doc. 2018-20343 Filed 9-18-18; 8:45 am]

BILLING CODE 4710-27-P